FEDERAL COMMUNICATIONS COMMISSION

[OMB 3060-XXXX, OMB 3060-0207, OMB 3060-0856; FR ID 74140]

Information Collections Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before April 4, 2022.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-XXXX.

Title: Wireless Emergency Alerts (WEA) Handset Displays and False Alert Reporting.

Form No.: N/A.

Type of Review: New information collection.

Respondents: Businesses or other for-profits; State, Local, or Tribal Government and Federal Government.

Number of Respondents and Responses: 23,277 respondents; 167 responses.

Estimated Time per Response: 1 hour-150 hours.

Frequency of Response: On occasion and one-time reporting requirement.

Obligation to Respond: Mandatory and Voluntary. Statutory authority for this information collection is contained in 47 U.S.C. 151, 152, 154(i), 154(o), 301, 303(r), 303(v), 307, 309, 335, 403, 544(g), 606, 613, 1201, 1202, 1203, 1204 and 1206.

Total Annual Burden: 22,815 hours.

Total Annual Cost: No cost.

Privacy Act Impact Assessment: No impact(s).

Nature and Extent of Confidentiality: There are no assurance of confidentiality associated with this collection of information.

Needs and Uses: This is a new request for approval of an information collection for two new regulations under the Commission's part 10 Wireless Emergency Alert (WEA) rules. No other information collections contained in the Commission's regulations will be impacted by the new rules described herein.

The WEA system is a mechanism under which Commercial Mobile Service (CMS) providers may elect to transmit emergency alerts to the public. The Commission created WEA (previously known as the Commercial Mobile Service Alert System) as required by Congress in the Warning Alert and Response Network (WARN) Act and to satisfy the Commission's mandate to promote the safety of life and property through the use of wire and radio communication.

On January 1, 2021, Congress passed the William M. (Mac) Thornberry National Defense Authorization Act for Fiscal Year 2021 (NDAA21). Section 9201 of the NDAA21 required the Commission to complete a rulemaking and adopt rules within 180 days to make certain changes to its WEA regulations, and also to its separate Emergency Alert System (EAS) regulations governing broadcast, cable television, and direct satellite media emergency alerts.

With respect to the WEA rule changes, Section 9201 directed the Commission to ensure that the mobile devices of CMS providers that have elected to participate in WEA cannot opt out of receiving WEA alerts from the Federal Emergency Management Agency (FEMA) Administrator, and to enable reporting by the FEMA Administrator and State, Tribal, or local governments of false WEA alerts. On June 21, 2021, the Commission released its Report and Order in PS Dockets 15-91 and 15-94 (NDAA21 Alerting Order), FCC 21-77, adopting the WEA and EAS changes directed by Congress in the NDAA21. The EAS changes are the subject of a different notice to be published separately.

The NDAA21 Alerting Order implemented Congresses' new directives for WEA, in part, with two new regulations that impose new burdens on respondents: The handset display update, and false alert reporting.

Handset Display Update

In the NDAA21 Alerting Order, the Commission combined the current non-optional class of WEA “Presidential Alerts” with FEMA Administrator Alerts into a new renamed alert class named “National Alerts.” Participating CMS providers that have chosen to display the phrase “Presidential Alert” on their handsets are required to either discontinue the handset's use of that phrase or otherwise change those displays to read “National Alert” by July 31, 2022. Network infrastructure that is technically incapable of meeting this requirement, such as legacy devices or networks that cannot be updated to support header display changes, are exempt from this requirement. The handset display changes are necessary to avoid confusion when wireless subscribers receive a non-optional emergency alert from the FEMA Administrator instead of the President.

The handset display update regulation is codified at 47 CFR 10.11(b).

False Alert Reporting

Also in the NDAA21 Alerting Order, the Commission adopted a rule permitting the FEMA Administrator or a State, local, Tribal, or territorial government to voluntarily report WEA false alerts to the FCC Operations Center at FCCOPS@fcc.gov, informing the Commission of the event and any relevant details. This rule creates a voluntary mechanism for collection of information so that the Commission can monitor these false alert events which can undermine public confidence in the reliability of emergency alerting and WEA. Email reporting was adopted as a minimally-burdensome way for government entities to report false alerts.

The WEA false alert reporting regulation is codified at 47 CFR 10.520(d)(2).

OMB Control Number: 3060-0207.

Title: Part 11—Emergency Alert System (EAS), Order, FCC 21-77.

Form No.: N/A.

Type of Review: Revision of a currently approved collection.

Respondents: Business or other for-profit; Not-for-profit institutions; State, Local, or Tribal Government.

Number of Respondents and Responses: 63,084 respondents; 3,588,845 responses.

Estimated Time per Response: 0.017 hours-112 hours.

Frequency of Response: Annual, on occasion and one-time reporting requirements.

Obligation to Respond: Mandatory and Voluntary. Statutory authority for this information collection is contained in 47 U.S.C. 154(i) and 606 of the Communications Act of 1934, as amended.

Total Annual Burden: 141,414 hours.

Total Annual Cost: No Cost.

Privacy Act Impact Assessment: No Impact(s).

Nature and Extent of Confidentiality: The Commission shares aggregated and individual State EAS Plan data on a confidential basis with other federal agencies and state governmental emergency management agencies that have confidentiality protection at least equal to that provided by the Freedom of Information Act.

Needs and Uses: Part 11 contains rules and regulations addressing the nation's Emergency Alert System (EAS). The EAS provides the President with the capability to provide immediate communications and information to the general public during periods of national emergency over broadcast television and radio, cable, direct broadcast radio and other EAS Participants, as defined in Section 11.11(a) of the Commission's rules. The EAS also provides state and local governments and the National Weather Service with the capability to provide immediate communications and information to the public concerning emergency situations posing a threat to life and property. Part 11 includes testing requirements to ensure proper and efficient operation of the EAS. State and local use of the EAS, alert processing requirements, and monitoring assignments covering the distribution of EAS alerts within the state, among other things, are required to be described in State EAS Plans that are administered by State Emergency Communications Committees (SECC) and submitted to the FCC annually for approval.

The Order, PS Docket Nos. 15-91 and 15-94, FCC 21-77, pursuant to the directions set forth in Section 9201 of the William M. (Mac) Thornberry National Defense Authorization Act for Fiscal Year 2021, Public Law 116-283, 134 Stat. 3388, § 9201 (NDAA21), among other things, (i) requires the Public Safety and Homeland Security Bureau (Bureau) to establish a State EAS Plan Content Checklist composed of the content set forth in section 11.21 of the Commission's rules, (47 CFR 11.21), post the checklist on the FCC's website, and incorporate it as an appendix in ARS user manual; (ii) amend the State EAS Plan requirements in section 11.21 of the Commission's rules to ensure plans are updated annually, require a certification by the SECC Chairperson or Vice-Chairperson that the SECC met (in person, via teleconference, or via other methods of conducting virtual meetings) at least once in the twelve months prior to submitting the annual updated plan, and require that the Bureau approve or reject State EAS Plans submitted for approval within 60 days of receipt; and (iii) require the Bureau to list the approval dates of State EAS Plans submitted on ARS on the Commission's website, and in the event a final decision is made to deny a plan, directly notify the chief executive of the State to which the plan applies of that determination and the reasons for such denial within 30 days of such decision. The Order also amends section 11.45 of the Part 11 rules to enable voluntary reporting to the Commission by the FEMA Administrator and Tribal, State, local or territorial governments of false EAS alerts.

The Commission seeks OMB approval of these rule amendments as a modification of a previously approved information collection. Congress has determined that EAS rule changes are necessary to increase oversight over the distribution of state and local EAS alerts within states, and increase false alert reporting capabilities to help ameliorate confusion or other harmful effects that might result from false EAS alerts. The internal State EAS Plan processing requirements and rule changes adopted in the Order will improve State EAS Plan processing and administration, improving the capabilities and efficacy of EAS as a national system for distributing vital alert information to all Americans, and will do so in a cost-effective manner.

The following information collections contained in Part 11 may be impacted by the rule amendments described herein.

State EAS Plans (47 CFR 11.21)

The establishment of a State EAS Plan Content Checklist for SECCs should have no impact or lessen SECC burdens, and posting it on the FCC's website, and incorporating it as an appendix in the ARS user manual, are routine Bureau activities. The requirement to ensure State EAS Plans are updated annually already was contained in section 11.21, and thus does not represent a new burden.

The amendment to include as a required element in the State EAS Plan, a certification (which will be incorporated into the ARS) by the SECC Chairperson or Vice-Chairperson that the SECC met (in person, via teleconference, or via other methods of conducting virtual meetings) at least once in the twelve months prior to submitting the annual updated plan to review and update their State EAS Plan should promote added diligence in SECC administration of State EAS Plans. The Commission estimates the burden to SECC members in complying with this requirement to be two hours per member.

The rule amendment requiring the Bureau approve or reject State EAS Plans submitted for approval within 60 days of receipt does not impose new burdens on any entity. The Bureau already is charged with reviewing State EAS Plans. The internal requirement that the Bureau list the approval dates of State EAS Plans submitted on ARS on the Commission's website, and in the event a final decision is made to deny a plan, directly notify the chief executive of the State to which the plan applies of that determination and the reasons for such denial within 30 days, does not impose new burdens on any entity. The Bureau already maintains a web page on the Commission's website dedicated to SECC and State EAS Plan information.

False EAS Alert Reporting (47 CFR 11.45)

The amendment enabling the FEMA Administrator and Tribal, State, local or territorial governments to file reports of false EAS alerts provides another mechanism for the Commission to receive information concerning false EAS alerts, does not impose burdens on any entity. Should any permitted government entity voluntarily elect to file a false EAS alert report, the burden associated with this provision amounts to composing an email, which the Commission estimates will take an hour or less to prepare, and falls within the routine activities of government employees. False alert reports help the Commission to identify, investigate, correct and prevent false EAS activations, which enhances the EAS's efficacy and the public trust in the EAS.

OMB Control Number: 3060-0856.

Title: Universal Service—Schools and Libraries Universal Service Support Program Reimbursement Forms.

Form Numbers: FCC Forms 472, 473, and 474.

Type of Review: Extension of a currently approved collection.

Respondents: Businesses or other for-profit institutions, not-for-profit institutions, and state, local or tribal government.

Number of Respondents and Responses: 16,600 respondents; 96,500 responses.

Estimated Time per Response: 1.5 hours.

Frequency of Response: On occasion and annual reporting requirements.

Obligation to Respond: Required to obtain or retain benefits. Statutory authority for this information collection is contained in sections 1, 4(i), 4(j), 201-205, 214, 254, 312(d), 312(f), 403 and 503(b) of the Communications Act of 1934, as amended. 5 U.S.C. 553(b)(3), 601-612; 15 U.S.C. 1, 632; 44 U.S.C. 3506(c)(4); 47 U.S.C. 1, 4(i), 4(j), 201-205, 214, 254, 312(d), 312(f), 403, 503(b).

Total Annual Burden: 144,750 hours.

Total Annual Cost: No cost.

Privacy Act Impact Assessment: No impact(s).

Nature and Extent of Confidentiality: If the Commission requests applicants or service providers to submit information that the respondents believe is confidential, respondents may request confidential treatment of such information under section 47 CFR 0.459 of the Commission's rules.

Needs and Uses: The Commission will submit this information collection to OMB, which is an extension of a currently approved collection, to obtain a full three-year clearance from OMB.

The FCC Form 472 is used by an applicant (also known as the billed entity) to seek reimbursement for the discounts on services paid in full. After receiving an invoice from the service provider, together with an FCC Form 472, USAC is able to verify the eligible service and approved amounts that should be reimbursed and can make the appropriate payment to the applicant. The FCC Form 472 is also used to ensure that each service provider has provided discounted services within the current funding year and that invoices submitted from service providers for the costs of discounted eligible services do not exceed the amount that has been approved.

The FCC Form 473 is used to verify that the service provider is eligible to participate in the schools and libraries universal service support program (E-Rate program) and to confirm that the invoice forms submitted by the service provider are in compliance with the Federal Communications Commission's E-Rate program rules. The FCC Form 473 is also used by USAC to assure that the dollars paid out by the universal service fund go to eligible providers.

The FCC Form 474 is used by an eligible service provider to seek payment for the discounted costs of services it provided to applicants (or billed entities) for eligible services. After receiving an invoice from the service provider, together with an FCC Form 474, USAC is able to verify that the eligible and approved amounts can be paid. The FCC Form 474 is also used to ensure that each service provider has provided discounted services within the current funding year for which it submits an invoice to USAC and that invoices submitted from service providers for the costs of discounted eligible services do not exceed the amount that has been approved.

All of the requirements contained in this information collection are necessary to implement the Congressional mandate for the E-Rate program and reimbursement process.

Federal Communications Commission.
Marlene Dortch,
Secretary, Office of the Secretary.

[FR Doc. 2022-04649 Filed 3-3-22; 8:45 am]

BILLING CODE 6712-01-P